INTERNATIONAL TRADE COMMISSION

[Investigation Nos. 731-TA-376 and 563-564 (Third Review)]

Stainless Steel Butt-Weld Pipe Fittings From Japan, Korea, and Taiwan

AGENCY: United States International Trade Commission.

ACTION: Termination of five-year reviews.

SUMMARY: The subject five-year reviews were initiated in September 2010 to determine whether revocation of the antidumping duty orders on stainless steel butt-weld pipe fittings from Japan, Korea, and Taiwan would be likely to lead to continuation or recurrence of material injury. On November 5, 2010, the Department of Commerce published notice that it was revoking the orders effective October 20, 2010, “{b}ecause no interested domestic party responded to the sunset review notice of initiation by the applicable deadline * * *” (75 FR 68324). Accordingly, pursuant to section 751(c) of the Tariff Act of 1930 (19 U.S.C. 1675(c)), the subject reviews are terminated.

DATES: Effective Date: October 20, 2010.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server http://www.usitc.gov.

Authority: These reviews are being terminated under authority of title VII of the Tariff Act of 1930; this notice is published pursuant to section 207.69 of the Commission's rules (19 CFR 207.69).

By order of the Commission.
Marilyn R. Abbott,
Secretary to the Commission.
Issued: December 1, 2010.

[FR Doc. 2010-30611 Filed 12-6-10; 8:45 am]

BILLING CODE 7020-02-P